DEPARTMENT OF AGRICULTURE

Forest Service

Ashley National Forest, Utah and Wyoming; Revision of Ashley National Forest Land and Resource Management Plan

AGENCY: Forest Service, USDA.

ACTION: Notice of intent to prepare an Environmental Impact Statement.

SUMMARY: The USDA Forest Service is revising the Land Management Plan (Forest Plan) for the Ashley National Forest and preparing an environmental impact statement (EIS). This notice describes the documents available for review and how to obtain them; summarizes the preliminary needs for changing the existing forest plan; summarizes the proposal to revise the forest plan, provides information concerning public participation and collaboration, including the process for submitting comments; provides an estimated schedule for the planning process, including the time available for comments, and includes the names and addresses of agency contacts who can provide additional information.

DATES: Comments concerning the scope of the analysis must be received by November 8, 2019. The agency expects to release a draft revised Forest Plan and EIS by fall 2020 and a final revised Forest Plan and EIS by summer 2021.

ADDRESSES: Send written comments to Ashley National Forest, Attention: Plan Revision, 355 North Vernal Avenue, Vernal, Utah 84078-1703. Comments may also be sent via email to AshleyForestPlan@usda.gov, or via facsimile to (435) 781-5142.

FOR FURTHER INFORMATION CONTACT: Cathleen Neelan, Forest Plan Revision Team Leader, at (435) 781-5120. Individuals who use telecommunication devices for the deaf (TDD) may call the Federal Information Relay Service (FIRS) at 1-800-877-8339 between 8:00 a.m. and 8:00 p.m., Eastern Standard Time, Monday through Friday. More information on the planning process may be found on the Ashley National Forest's Planning website at https://www.fs.usda.gov/main/ashley/landmanagement/planning.

SUPPLEMENTARY INFORMATION:

Proposed Action, Purpose and Need, and Need To Change

The proposed action is to revise the Forest Plan to address the identified need to change the existing Forest Plan. According to the National Forest Management Act (NFMA), forest plans are to be revised on a 10 to 15-year cycle. The purpose and need for revising the current Forest Plan is (1) the Forest Plan is over 30 years old and has been amended 24 times, (2) since the Forest Plan was approved in 1986, there have been changes in economic, social, and ecological conditions, new policies and priorities, and new information based on monitoring and scientific research, and (3) to address the preliminary need to change to the existing plan, which is summarized below.

Extensive public and employee involvement, along with science-based evaluations, will help shape the preliminary need to change the existing Forest Plan, so a proposed plan can be developed and analyzed in an EIS.

The Ashley National Forest planning team has developed preliminary need to change statements in the document “Preliminary Need to Change the Ashley National Forest Land Management Plan,” available for review on the Ashley forest plan revision website at https://www.fs.usda.gov/main/ashley/landmanagement/planning. This document was developed based on public comments on and information in the Ashley National Forest Assessment. The responsible official will use public comments on the preliminary need to change information to develop an identified need to change that will provide the basis for revising the Forest Plan.

The preliminary need to change the Forest Plan has been organized into five focus topics. Focus topics make it easier to ensure the purpose and need to revise the Forest Plan are met. The focus topics are as follows:

1. There is need for sustainable recreation (balance recreation use with ecological integrity, address population increases and aging populations; and address shifts in types of preferred recreation.)

2. There is need for economic resiliency (balancing local communities and economies with ecosystem services generated on the Ashley National Forest) including municipal water, recreation activities, employments and tourism.

3. There is need to manage traditional resource uses (conserve and encourage traditional uses such as mineral development, livestock grazing, timber and woodland products use, fuelwood collection, etc.) and balance them with other multiple uses while transitioning from commodity based goods to a focus on restoration, resiliency and sustainability within emerging economic opportunities.

4. There is need to manage cultural resources, improving tribal relationships and partnerships, to provide for subsistence and other cultural activities, including guidance to manage areas of tribal importance.

5. There is need to manage for resilient ecosystems and watersheds (protect and restore terrestrial and aquatic ecosystems and reduce conifer encroachment in vegetation communities associated with wildlife diversity and grazing).

The preliminary need to change information has led to development of a “Proposal to Revise the Land Management Plan.” Public review and comments on these documents will help the Ashley National Forest responsible official and planning team to refine the need to change the Forest Plan and develop a proposed revised Forest Plan that will be analyzed in a draft EIS.

Lead and Cooperating Agencies

The Ashley National Forest is the lead agency for the environmental analysis process during the revision of the Forest Plan. The following counties have been formally identified as cooperating agencies for Utah: Daggett, Duchesne, Summit, Utah and Uintah Counties. The State of Utah—Public Lands Policy Coordinating Office and the Conservation Districts for Daggett, Uintah and Duchesne also serve as cooperating agencies. Entities formally identified as cooperating agencies for Wyoming include the State of Wyoming Governor's Policy Office, Sweetwater County and two Conservation Districts for Wyoming; Sweetwater and Uinta. The Ute and Eastern Shoshone Tribes did not sign formal agreements with the Ashley National Forest but are treated similar to cooperators because of their sovereign status.

Responsible Official

Mike Richardson, Acting Forest Supervisor, Ashley National Forest

Nature of the Decision To Be Made

The Ashley National Forest is preparing an EIS to revise the existing 1986 Forest Plan. The environmental analysis process is meant to inform the Forest Supervisor so he can decide which alternative best maintains and restores National Forest System terrestrial and aquatic resources while providing ecosystem services and multiple uses, as required by the NFMA and the Multiple Use Sustained Yield Act.

The revised Forest Plan will describe the strategic intent of managing the Ashley National Forest for the next 10 to 15 years and will address the identified need to change the existing Forest Plan. The revised Forest Plan will provide management direction in the form of desired conditions, objectives, standards, guidelines, and suitability of lands. The revised Forest Plan will identify management areas and geographic areas, the timber sale program quantity, and the river segments found eligible for inclusion in the National Wild and Scenic Rivers System. The revised Forest Plan may also include preliminary administration recommendations for wilderness designation by Congress. The revised Forest Plan will identify suitable uses of the Ashley National Forest, and it will identify a variety of recreation opportunities. The revised Forest Plan will provide a description of the plan area and its distinctive roles and contributions within the broader landscape, identify watersheds that are a priority for maintenance or restoration, include a monitoring program, and contain information reflecting expected possible actions over the life of the plan.

The revised Forest Plan will provide broad, strategic guidance that is consistent with other laws and regulations. Though strategic guidance will be provided, no decisions will be made regarding the regulation of public activities and access to federal lands; the management of individual roads, trails, or areas associated with the Travel Management Rule (36 CFR part 212); or permitted activities, such as outfitters and guides, or grazing. These activities, projects, and site-specific management actions are managed through separate administrative and regulatory processes. Similarly, no decision regarding oil and gas leasing availability will be made, although plan components may be brought forward or developed in the future that will help guide oil and gas leasing availability decisions that may be necessary. Some actions (such as hunting regulations), although important, are outside Forest Service authority and cannot be included in the proposed action.

Documents Available for Review and Comment

The “Preliminary Need to Change the Ashley National Forest Land Management Plan” and the “Proposal to Revise the Land Management Plan” are available for review at the Ashley National Forest Planning website at: https://www.fs.usda.gov/main/ashley/landmanagement/planning. In addition to these documents, the Ashley National Forest is requesting review and comment on the Wilderness Evaluation Report and the Wild and Scenic Rivers Eligibility Report, also available on the website. Congress has the authority to make wilderness and wild and scenic river designations; however, the 2012 Planning Rule requires the Forest Service to evaluate and make recommendations for such designations through the plan revision process. Both evaluations are a multi-step process that require public feedback throughout the forest plan revision process. Further opportunities for public participation will be provided on the inventories, evaluations, analyses, and, for wilderness, preliminary administrative recommendations.

Scoping Process

This Notice of Intent initiates the scoping process, which guides the development of the EIS. The Ashley National Forest uses multiple means of communication and notification about forest plan revision information and events. These include newspaper, radio, TV, posters, social media and electronic notices. Informal phone networks have been developed to get information to members of the public that do not use electronic communication along with a newsletter update for important steps in the process that is mailed by postal mail. The Ashley National Forest encourages all those interested to sign up for information electronically on the Ashley National Forest Planning website https://www.fs.usda.gov/main/ashley/landmanagement/planning, submit comments, and continue to monitor the website for updates.

Written comments received in response to this notice will be considered to determine the need to change the existing plan, further develop the proposed action, and identify potential significant issues. Significant issues will help form the basis for developing alternatives to the proposed action. Comments received on the Wilderness Evaluation Report and the Wild and Scenic Rivers Eligibility Report will be considered to refine report findings as well as the process.

It is important that reviewers provide their comments at such times and in such manner that they are useful to the agency's preparation of the EIS. Therefore, comments should be provided prior to the close of the comment period and should clearly articulate the reviewer's issues and contentions, and make suggestions for changes or inclusions. Comments received in response to this notice, including the names and addresses of those who comment, will be part of the public record. Comments submitted anonymously will be accepted and considered in the environmental analysis process; however, anonymous comments will not provide the Ashley National Forest the ability to provide the respondent with subsequent environmental documents. Refer to the Ashley National Forest website https://www.fs.usda.gov/main/ashley/landmanagement/planning for information on when public meetings will be scheduled for refining the proposed action and to begin identifying possible alternatives.

The decision to approve the revised Forest Plan will be subject to the objection process for the planning process (36 CFR part 219, subpart B). Only those individuals and entities who submit substantive formal comments related to this Forest Plan revision during the opportunities for public comment as provided in 36 CFR part 219, subpart A, may file an objection. The burden is on the objector to demonstrate compliance with requirements for objection (36 CFR 219.53).

Applicable Planning Rule

Preparation of the revised Forest Plan for the Ashley National Forest began with the publication of a notice of initiation in the Federal Register on July 22, 2016 (81 FR 47749) using the 2012 Forest Service planning rule (36 CFR 219 (2012)).

Dated: September 4, 2019.
Frank R. Beum,
Acting Associate Deputy Chief, National Forest System.

[FR Doc. 2019-19503 Filed 9-9-19; 8:45 am]

BILLING CODE 3411-15-P